DEPARTMENT OF THE INTERIOR

National Park Service

National Register of Historic Places; Notification of Pending Nominations

Nominations for the following properties being considered for listing in the National Register were received by the National Park Service before April 6, 2002. Pursuant to § 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St. NW., Suite 400, Washington DC 20002; or by fax, 202-343-1836. Written or faxed comments should be submitted by May 9, 2002.

Carol D. Shull,
Keeper of the National Register Of Historic Places.

Alabama

Colbert County

Sheffield Downtown Commercial District, Roughly bounded by Sixth St., Austin Ave, Fourth St., Pittsburg St., First St., and Columbia Ave., Sheffield, 02000483

Sheffield Residential Historic District, Roughly bounded by Riverside Pk, River Bluff Dr., Wood, Third, Second Sts., 15th Ave., 27th St., and 19th Ave., Sheffield, 02000481

Etowah County

Alabama City Wall Street Historic District, Roughly along Wall St., from Norris Ave. to Meighan Blvd., Gadsden, 02000484

Jackson County

Bridgeport Historic District, Roughly bounded by Bridgeport City Limits, Enrich Ave., Bridgeport, 5th Ave., Broadway Ave., 8th St., and 11th Ave., Bridgeport, 02000479

Jefferson County

Downtown Bessemer Historic District (Boundary Increase), Roughly along 19th St., 4th Ave., and Carolina Ave., Bessemer, 02000480

Hollywood Historic District, Roughly bounded by Al 31, AL 280 and Lakeshore Dr., Homewood, 02000482

Marshall County

Kate Duncan Smith Daughters of the American Revolution School, 6077 Main St., Grant, 02000478

Arkansas

Jefferson County

Sherrill Methodist Episcopal Church, South, 301 Main St., Sherrill, 02000487

Montgomery County

Caddo Valley Academy Complex, 234 Hettie St., Norman, 02000485

Randolph County

Pocahontas Post Office, 109 Van Bibber St., Pocahontas, 02000488

Scott County

Scott City County Jail, (Old), 125 W. 2nd St., Waldron, 02000486

California

Sacramento County

Sandy Cove, Address Restricted, Sacramento, 02000489

Florida

Gulf County

USCG Cutter DUANE, 1 mi. S of Molasses Reef, Key Largo, 02000494

Volusia County

Orange City Town Hall, 205 E. Graves Ave., Orange City, 02000493

Illinois

Cook County

Raymond Park Apartments, (Suburban Apartment Buildings in Evanston TR) 1501 Hinman and 425 Grove, Evanston, 02000503

Iowa

Van Buren County

Goodin Building, North 106 Front St., Farmington, 02000505

Kansas

Marion County

Schaeffler, William F. and Ida G., House, 312 E. Grand, Hillsboro, 02000490

Osborne County

IOOF Lodge, Jct. of Nicholas and Mill Sts., Alton, 02000491

Shawnee County

Union Pacific Railroad Passenger Depot, (Railroad Resources of Kansas MPS) 701 N. Kansas Ave., Topeka, 02000492

North Carolina

Duplin County

Utley—Council House, (Wake County MPS) NC 1390, near jct. with NC 1387, Apex, 02000498

Wake County

Bloomsbury Historic District, (Five Points Neighborhoods, Raleigh, North Carolina MPS) Roughly bounded by Fairview Rd., St. Mary's St., Byrd St., Sunset Dr. and Whitaker Mill Rd., Raleigh, 02000497

Fuquay Springs High School, (Wake County MPS) 112 N. Ennis St., Fuquay-Varina, 02000495

Graves, Willis M., House, (Oberlin, North Carolina MPS) 802 Oberlin Rd., Raleigh, 02000500

Hall, Rev. Plummer T., House, (Oberlin, North Carolina MPS) 814 Oberlin Rd., Raleigh, 02000501

Hayes Barton Historic District, (Five Points Neighborhoods, Raleigh, North Carolina MPS) Roughly bounded by St. Mary's St., Fairview Rd., Aycock St., Scales St. and Williamson Dr., Raleigh, 02000496

Latta, Rev. M.L., House, (Oberlin, North Carolina MPS) 1001 Parker St., Raleigh, 02000502

Turner, John T. and Mary, House, (Oberlin, North Carolina MPS) 1002 Oberlin Rd., Raleigh, 02000499

Pennsylvania

Luzerne County

Wyoming Monument, US 11, Wyoming Ave. and Susquehanna St., Wyoming Borough, 02000509

Utah

Cache County

Richmond Interurban Depot, Address Restricted, Richmond, 02000508

Carbon County

Bruno, Giacomo and Maria, House and Farmstead, 524 N. Main St., Helper, 02000506

Sanpete County

Fairview Amusement Hall, 75 S. State St., Fairview, 02000507

Summit County

Watson, Patrick B., House, (Residences of Mining Boom Era Park City MPS) 962 Norfolk Ave., Park City, 02000504

Virginia

Appomattox County

Appomattox Historic District, Roughly along High, Church, Highland, VA 131, Linden, Lee Grant, Oakleigh and Evergreen, Appomattox, 02000510

Arlington County

Lyon Village Historic District, Roughly bounded by Lee Hwy, N. Veitch St., N. Franklin Rd., N. Highland St., N. Fillmore St., and N. Kirkwood Rd., Arlington, 02000512

Campbell County

Oak Grove, 7378 Gladys Rd., Altavista, 02000516

Carroll County

Hillsville Historic District, 300-500 Blks of Main St., Hillsville, 02000522

Pless, A.G., Jr. House, 942 Glendale Rd., Galax, 02000526

Floyd County

Glenanna, 204 W. Main St., Floyd, 02000523

Frederick County

Opequon Historic District, Jct. of VA 622 and VA 620, Winchester, 02000515

Fredericksburg Independent city Washington Avenue Historic District, 1200-1500 blks of Washington Ave., and 620 Lewis St., Fredericksburg (Independent City), 02000518

Hanover County

Montpelier Historic District, Roughly along Mountain Rd., Montpelier, 02000517

Henrico County

Rocky Mills, 211 Ross Rd., Richmond, 02000513

Mecklenburg County

Boydton Historic District, Roughly the Boydton corporate limits except for section including and NW of VA 58, Boydton, 02000511

Richmond Independent city Manchester Residential and Commercial Historic District, Roughly bounded by 9th St., McDonough St., Cowardin Ave., and Stockton St. Richmond (Independent City), 02000521

Union Hill Historic District, Roughly bounded by 25th, Carrington, and Mosby Sts., and Jefferson Ave., Richmond (Independent City), 02000520

Tazewell County

Tazewill Historic District, Main, Church, Tower, and Pine Sts., and Central Ave., Tazewell, 02000519

Warren County

Riverton Historic District, Roughly along Crisman Dr., Duck St., Old Winchester Pike, Queens Hwy., Riverside Dr., Rugby St., and Strasburg Rd., Front Royal, 02000514

Washington County

Grove, The, 14071 Lee Hwy, Bristol, 02000525

Wise County

Hotel Norten, 798 Park Ave., Norton, 02000524

[FR Doc. 02-10025 Filed 4-23-02; 8:45 am]

BILLING CODE 4310-70-P